DEPARTMENT OF JUSTICE

Antitrust Division

Notice Pursuant to the National Cooperative Research and Production Act of 1993—VSI Alliance

Notice is hereby given that, on July 9, 2003, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Luciano Agostini (individual member), Pelotas, Brazil; Bill Ashely (individual member), Seattle, WA; Don Bouldin (individual member), Knoxville, TN; Liang T. Chen (individual member), Menlo Park, CA; Cira Nova, Inc., Campbell, CA; Dolphin Technology, Inc., San Jose, CA; Fraunhofer IPMS, Dresden, Germany; GDA Telechonogies, Inc., Bangalore, India; Stewart Goudie (individual member), Edinburgh, Scotland, United Kingdom; Diethard Mahorka (individual member), Melk, Austria; Gary Panzer (individual member), Alta Loma, CA; Cyril Rayan (individual member), San Jose, CA; Renesas Technology Corp., Tokyo, Japan; Pratul Shroff (individual member), Santa Clara, CA; Jorge Sitkewich (individual number), Los Gatos, CA; Telecom Italia S.p.A., Torino, Italy; VCX Limited, Livingston, Scotland, United Kingdom; and WIS Technologies, Inc., San Jose, CA have been added as parties to this venture.

Also, Acuid Limited, Edinburgh, Scotland, United Kingdom; Alatek, Inc., Las Vegas, NV; ATI Technologies, Inc., Markham, Ontario, Canada; CoWare, Inc., San Jose, CA; Cypress Semiconductor, Inc., San Jose, CA; Fraunhofer Institute IMS, Dresden, Germany; Fujitsu Limited, Tokoyo, Japan; Jeda Technologies, Los Altos, CA; Susan Harrison (individual member), Palo Alto, CA; Hitachi Semiconductor America, Tokyo, Japan; Improv Systems, Inc., San Jose, CA; LogicVision, Inc., San Jose, CA; LSI Systems, Inc., Kawasaki-city, Japan; Mitsubishi Electric Corporation, Itami, Japan; Silicon Design Solutions, Inc., Milpitas, CA; Telecom Italia Lab (TILAB) Torino, Italy; The Athena Group, Inc., Gainesville, FL; and Virtual Component Exchange, Livingston, Scotland, United Kingdom have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to section 6(b) of the Act on March 4, 1997 (62 FR 9812).

The last notification was filed with the Department on April 8, 2003. A notice was published in the Federal Register pursuant to section 6(b) of the Act on May 14, 2003 (68 FR 25906).

Constance K. Robinson,
Director of Operations, Antitrust Division.

[FR Doc. 03-19050 Filed 7-25-03; 8:45 am]

BILLING CODE 4410-11-M